DEPARTMENT OF THE INTERIOR

National Park Service

30-Day Notice of Submission to Office of Management and Budget; Opportunity for Public Comment

AGENCY: National Park Service, Department of the Interior.

ACTION: Notice and request for comments.

SUMMARY: Under provisions of the Paperwork Reduction Act of 1995 and 5 CFR part 1320, Reporting and Recordkeeping Requirements, the National Park Service (NPS) invites comments on a currently approved collection of information (OMB Control #1024-0125).

The Office of Management and Budget (OMB) has up to 60 days to approve or disapprove the NPS request to renew this information collection, but may respond after 30 days. Therefore, to ensure maximum consideration, OMB should receive public comments within 30 days of the date on which this notice is published in the Federal Register.

DATES: Public comments on the proposed Information Collection Request (ICR) will be accepted for thirty days from the date of publication in the Federal Register.

ADDRESSES: You may submit comments directly to the Desk Officer for the Department of the Interior, (OMB #1024-0125) Office of Information and Regulatory Affairs, OMB by fax at 202/395-6566, or by electronic mail at OIRA_DOCKET@omb.eop.gov. Please also send a copy of your comments to Ms. Jo A. Pendry, Concession Program Manager, National Park Service, 1849 C Street, NW. (2410), Washington, DC 20240, or electronically to jo_pendry@nps.gov.

FOR FURTHER INFORMATION CONTACT: Jo A. Pendry, phone: 202-513-7156, fax: 202-371-2090, or at the address above. You are entitled to a copy of the entire ICR package free-of-charge. The National Park Service published the 60-day Federal Register notice to solicit comments on this proposed information collection on July 10, 2006, on page 38895.

There were no public comments received as a result of publishing in the Federal Register a 60-day Notice of Intention to Request Clearance of Information Collection for this survey.

SUPPLEMENTARY INFORMATION: Title: Submission of Offers in Response to Concession Opportunities.

OMB Control Number: 1024-0125.

Expiration Date of Approval: December 31, 2006.

Type of request: Extension of a currently approved information collection.

Description of Need: The regulations at 36 CFR part 51 primarily implement Title IV of the National Parks Omnibus Management Act of 1998 (Pub. L. 105-391 or the Act), which provides new legislative authority, policies and requirements for the solicitation, award and administration of NPS concession contracts. The regulations require the submission of offers by parties interested in applying for an NPS concession contract.

NPS has submitted a request to OMB to renew approval of the collection of information in 5 CFR part 1320 and Sections 403(4), (5), (7), and (8) of the Act regarding the submission of offers in response to a concession opportunity. NPS is requesting a 3-year term of approval for this information collection activity.

Bureau Form Number: None.

Frequency of Collection: On occasion.

Description of Respondents: Persons or entities seeking a National Park Service concession contract.

Total Annual Responses: 240.

Estimate of Burden: Approximately 56 hours per response.

Total Annual Burden Hours: 76,800.

Total Non-hour Cost Burden: $1,120,000.

Specific requirements regarding the information that must be submitted by offerors in response to a prospectus issued by NPS are contained in sections 403(4), (5), (7), and (8) of the Act. Send comments on (1) The need for this collection; (2) the accuracy of the agency's burden estimates; (3) ways to enhance the quality, utility and clarity of the collection; and (4) ways to minimize the burden, including the use of automated collection techniques or other forms of information technology; or any other aspect of this collection to the Office of Management and Budget at the above address. Please also send a copy of your comments to the NPS. Please refer to OMB control number 1024-0125 in all correspondence.

Our practice is to make comments, including names and home addresses of respondents, available for public review during regular business hours. Individual respondents may request that we withhold their names and/or home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses and from individuals identifying themselves as representatives of or officials of organizations or businesses, available for public inspection in their entirety.

Dated: November 1, 2006.
Leonard Stowe,
NPS Information Collection, Clearance Officer.

[FR Doc. 06-9243 Filed 11-16-06; 8:45 am]

BILLING CODE 4312-53-M